ARCHITECTURAL AND TRANSPORTATION BARRIERS COMPLIANCE BOARD

Meeting

AGENCY: Architectural and Transportation Barriers Compliance Board.

ACTION: Notice of meeting.

SUMMARY: The Architectural and Transportation Barriers Compliance Board (Access Board) has scheduled its regular business meetings to take place in Washington, DC on Monday, Tuesday, Wednesday, and Thursday, March 12-15, 2001, at the times and location noted below.

DATES: The schedule of events is as follows:

Monday, March 12, 2001

1:00 p.m.-5:00 p.m.—Committee of the Whole—Americans with Disabilities Act/Architectural Barriers Act Final Rule (Closed Meeting)

Tuesday, March 13, 2001

9:00 a.m.-Noon Committee of the Whole—Americans with Disabilities Act/Architectural Barriers Act Final Rule (Closed Meeting)

1:30 p.m.-2:30 p.m.—Technical Programs Committee

2:30 p.m.-4:00 p.m.—Committee of the Whole—Recreation Facilities Final Rule (Closed Meeting)

4:00 p.m.-5:00 p.m.—Planning and Budget Committee

Wednesday, March 14, 2001

9:00 a.m.-10:30 a.m. Committee of the Whole—Americans with Disabilities Act/Architectural Barriers Act Final Rule (Closed Meeting)

10:30 a.m.-Noon—Executive Committee

1:30 p.m.-3:30 p.m.—Board Meeting

Thursday, March 15, 2001

9:00 a.m.-5:00 p.m.—Committee of the Whole—Americans with Disabilities Act/Architectural Barriers Act Final Rule (Closed Meeting)

ADDRESSES: The meetings will be held at the Washington Renaissance Hotel, 999 9th Street, NW, Washington, DC.

FOR FURTHER INFORMATION CONTACT: For further information regarding the meetings, please contact Lawrence W. Roffee, Executive Director, (202) 272-5434, extension 113 (voice) and (202) 272-5449 (TTY).

SUPPLEMENTARY INFORMATION: At the Board meeting, the Access Board will consider the following agenda items.

Open Meeting

• Executive Director's Report

• Election of Officers

• Approval of the Minutes of the January 10, 2001 Board Meeting

• Executive Committee Report—Nominating Committee Report

• Planning and Budget Committee Report—Budget Spending Plan for Fiscal Year 2001 and Fiscal Year 2002 Budget

• Technical Programs Committee Report—Report on Research and Technical Assistance Projects

Closed Meeting

• Committee of the Whole Report on the Americans with Disabilities Act/Architectural Barriers Act Final Rule

• Committee of the Whole Report on Recreation Facilities Final Rule

All meetings are accessible to persons with disabilities. Sign language interpreters and an assistive listening system are available at all meetings. Persons attending Board meetings are requested to refrain from using perfume, cologne, and other fragrances for the comfort of other participants.

James J. Raggio,
General Counsel.

[FR Doc. 01-4744 Filed 2-26-01; 8:45 am]

BILLING CODE 8150-01-P